JUDICIAL CONFERENCE OF THE UNITED STATES

Meeting of the Judicial Conference Advisory Committee on Rules of Criminal Procedure

AGENCY: Judicial Conference of the United States, Advisory Committee on Rules of Criminal Procedure.

ACTION: Notice of cancellation of open meeting.

SUMMARY: The meeting of the Advisory Committee on Rules of Criminal Procedure, which was scheduled for October 29-30, 2001, in Santa Fe, New Mexico, has been canceled. [Original notice of the meeting appeared in the Federal Register of August 29, 2001.]

FOR FURTHER INFORMATION CONTACT: John K. Rabiej, Chief, Rules Committee Support Office, Administrative Office of the United States Courts, Washington, DC 20544, telephone (202) 502-1820.

Dated: October 4, 2001.
John K. Rabiej,
Chief, Rules Committee Support Office.

[FR Doc. 01-25434 Filed 10-9-01; 8:45 am]

BILLING CODE 2210-55-M